NUCLEAR REGULATORY COMMISSION

[Docket Nos. 50-321 and 50-366]

Southern Nuclear Operating Company, Inc., et al., Edwin I. Hatch Nuclear Plant, Units 1 and 2; Notice of Withdrawal of Application for Amendment to Facility Operating License

The U.S. Nuclear Regulatory Commission (the Commission) has granted the request of Southern Nuclear Operating Company, Inc. (the licensee) to withdraw its July 11, 2002, as supplemented by letter dated August 19, 2003, application for proposed amendment to Renewed Facility Operating License DPR-57 and to Renewed Facility Operating License NPF-5 for the Edwin I. Hatch (Hatch) Nuclear Plant, Units 1 and 2, located in Appling County, Georgia.

The proposed amendment would have revised the Technical Specifications (TSs) to delete TS 3.3.1.1.I.2, which requires returning the Oscillating Power Range Monitor to operable status within 120 days of discovering its inoperability.

The Commission had previously issued a Notice of Consideration of Issuance of Amendment published in the Federal Register on August 6, 2002 (67 FR 50959). However, by letter dated September 12, 2003, the licensee withdrew the proposed change.

For further details with respect to this action, see the application for amendment dated July 11, 2002, as supplemented by letter dated August 19, 2003, and the licensee's letter dated September 12, 2003, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 16th day of September 2003.
For the Nuclear Regulatory Commission.
Steve Bloom,
Project Manager, Section 1, Project Directorate II, Division of Licensing Project Management, Office of Nuclear Reactor Regulation.

[FR Doc. 03-24092 Filed 9-18-03; 12:01 pm]

BILLING CODE 7590-01-P